DEPARTMENT OF HOMELAND SECURITY

Coast Guard

33 CFR Part 117

[Docket No. USCG-2017-1031]

Drawbridge Operation Regulation; Passaic River, Newark, NJ

AGENCY: Coast Guard, DHS.

ACTION: Notice of temporary deviation from drawbridge regulation; modification.

SUMMARY: The Coast Guard has modified a temporary deviation from the operating schedule that governs the Routes 1 & 9 (Lincoln Highway) Bridge across the Passaic River, mile 1.8, at Newark, New Jersey. This modified deviation extends the period the bridge may remain in the closed-to-navigation position and is necessary to facilitate structural steel repairs at the lift span.

DATES: This modified deviation is effective without actual notice from February 15, 2018 through 11:59 p.m. March 30, 2018. For purposes of enforcement, actual notice will be used from 12:01 a.m. February 3, 2018, until February 15, 2018.

ADDRESSES: The docket for this modified deviation, USCG-2017-1031, is available at http://www.regulations.gov. Type the docket number in the “SEARCH” box and click “SEARCH”. Click on Open Docket Folder on the line associated with this deviation.

FOR FURTHER INFORMATION CONTACT: If you have questions on this modified temporary deviation, call or email Judy K. Leung-Yee, Bridge Management Specialist, First District Bridge Branch, U.S. Coast Guard; telephone 212-514-4336, email Judy.K.Leung-Yee@uscg.mil.

SUPPLEMENTARY INFORMATION: On November 21, 2017, the Coast Guard published a temporary deviation entitled “Drawbridge Operation Regulation; Passaic River, Newark, NJ” in the Federal Register (82 FR 55322). That deviation allowed the bridge to be in closed-to-navigation position from November 21, 2017 to January 5, 2018. On December 28, 2017, the Coast Guard published a modified temporary deviation entitled “Drawbridge Operation Regulation; Passaic River, Newark, NJ” in the Federal Register (82 FR 61452). That modified temporary deviation extended the period the bridge may remain in the closed position from January 6, 2018 to February 2, 2018.

The owner of the bridge, the New Jersey Department of Transportation, requests a second modification to extend the bridge closure from 12:01 a.m. February 3, 2018 to 11:59 p.m. March 30, 2018. The extension is necessary to facilitate structural steel repairs at the lift span that have been delayed by inclement weather.

The Routes 1 & 9 Bridge across the Passaic River, mile 1.8, at Newark, New Jersey is a vertical lift bridge with a vertical clearance of 40 feet at mean high water and 45 feet at mean low water in the closed position. The existing drawbridge operating regulations are listed at 33 CFR 117.739(b).

The waterway users are seasonal recreational vessels and commercial vessels of various sizes. Coordination with waterway users indicated no objection to extending the closure of the draw. Vessels that can pass under the bridge without an opening may do so at all times. The bridge will not be able to open for emergencies. There is no alternate route for vessels to pass.

The Coast Guard will inform the users of the waterways through our Local and Broadcast Notices to Mariners of the change in operating schedule for the bridge so vessel operators may arrange their transits to minimize any impact caused by the temporary deviation.

In accordance with 33 CFR 117.35(e), the drawbridge must return to its regular operating schedule immediately at the end of the effective period of this temporary deviation. This deviation from the operating regulations is authorized under 33 CFR 117.35.

Dated: February 1, 2018.
Christopher J. Bisignano,
Supervisory Bridge Management Specialist, First Coast Guard District.

[FR Doc. 2018-03172 Filed 2-14-18; 8:45 am]

BILLING CODE 9110-04-P